DEPARTMENT OF DEFENSE

GENERAL SERVICES ADMINISTRATION

NATIONAL AERONAUTICS AND SPACE ADMINISTRATION

[OMB Control No. 9000-0013; Docket 2017-0053; Sequence 7]

Information Collection; Certified Cost or Pricing Data and Data Other Than Certified Cost or Pricing Data

AGENCY: Department of Defense (DOD), General Services Administration (GSA), and National Aeronautics and Space Administration (NASA).

ACTION: Notice of request for public comments regarding an extension to an existing OMB information collection.

SUMMARY: Under the provisions of the Paperwork Reduction Act of 1995, the Regulatory Secretariat Division will be submitting to the Office of Management and Budget (OMB) a request to review and approve an extension of a previously approved information collection requirement concerning Certified Cost or Pricing Data and Data Other Than Certified Cost or Pricing Data.

DATES: Submit comments on or before November 13, 2017.

ADDRESSES: Submit comments identified by Information Collection 9000-0013, Certified Cost or Pricing Data and Data Other Than Certified Cost or Pricing Data, by any of the following methods:

• Regulations.gov: http://www.regulations.gov. Submit comments via the Federal eRulemaking portal by searching the OMB control number 9000-0013. Select the link that corresponds with “Information Collection 9000-0013, Certified Cost or Pricing Data and Data Other Than Certified Cost or Pricing Data”. Follow the instructions provided on the screen. Please include your name, company name (if any), and “Information Collection 9000-0013, Certified Cost or Pricing Data and Data Other Than Certified Cost or Pricing Data”, on your attached document.

• Mail: General Services Administration, Regulatory Secretariat Division (MVCB), 1800 F Street NW., Washington, DC 20405. ATTN: Mr. Poe/IC 9000-0013, Certified Cost or Pricing Data and Data Other Than Certified Cost or Pricing Data.

Instructions: Please submit comments only and cite Information Collection 9000-0013, Certified Cost or Pricing Data and Data Other Than Certified Cost or Pricing Data, in all correspondence related to this collection. All comments received will be posted without change to http://www.regulations.gov, including any personal and/or business confidential information provided.

FOR FURTHER INFORMATION CONTACT: Mr. Michael O. Jackson, Procurement Analyst, Federal Acquisition Policy Division, GSA, 202-208-4949 or michaelo.jackson@gsa.gov.

SUPPLEMENTARY INFORMATION:

A. Purpose

The Truth in Negotiations Act requires the Government to obtain certified cost or pricing data under certain circumstances. Contractors may request an exemption from this requirement under certain conditions and provide other information instead.

B. Annual Reporting Burden

Fiscal year 2016 data was obtained from the Federal Procurement Data System to estimate burdens for the provisions and clauses addressed in this information collection notice. This update does not include the requirements at FAR 42.7, Indirect Cost Rates, as this requirement is covered under OMB Control Number 9000-0069. The data for 52.215-20 is for new contract awards in FY 2016. The data for modifications and orders executed in FY 2016 applies to new contract awards as well as to prior multiple year contracts that continue to be active. The following is a summary of the FY 2016 data:

1. Subcontractor C&P Data-Mods (FAR 52.214-28)

Respondents: 8.

Responses per Respondent: 1.

Total Responses: 8.

Hours per Response: 160.

Total Burden Hours: 1,280.

2. Subcontractor C&P Data (FAR 52.215-12)

Respondents: 3,832.

Responses per Respondent: 1.

Total Responses: 3,832.

Hours per Response: 160.

Total Burden Hours: 613,120.

3. Subcontractor C&P Data-Mods (FAR 52.214-13)

Respondents: 1,292.

Responses per Respondent: 1.

Total Responses: 1,292.

Hours per Response: 160.

Total Burden Hours: 206,720.

4. Requirement for C&P Data and Data Other than C&P Data (FAR 52.215-20)

Respondents: 25,853.

Responses per Respondent: 1.69.

Total Responses: 117,225.

Hours per Response: 143.

Total Burden Hours: 6,506,140.

5. Requirement for C&P Data and Data Other than C&P Data-Mods (FAR 52.215-21)

Respondents: 8,440.

Responses per Respondent: 3.

Total Responses: 27,623.

Hours per Response: 106.

Total Burden Hours: 2,432,560.

6. Total

Respondents: 39,425.

Responses per Respondent: 3.80.

Total Responses: 149,980.

Hours per Response: 65.

Total Burden Hours: 9,759,820.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control No. 9000-0013, Certified Cost or Pricing Data and Data Other Than Certified Cost or Pricing Data, in all correspondence.

Dated: September 6, 2017.
Lorin S. Curt,
Director, Federal Acquisition Policy Division, Office of Government-wide Acquisition Policy, Office of Acquisition Policy, Office of Government-wide Policy.

[FR Doc. 2017-19340 Filed 9-12-17; 8:45 am]

BILLING CODE 6820-EP-P